DEPARTMENT OF TRANSPORTATION

Federal Motor Carrier Safety Administration

[Docket No. FMCSA-2003-14223]

Qualification of Drivers; Exemption Applications; Vision

AGENCY: Federal Motor Carrier Safety Administration (FMCSA), DOT.

ACTION: Notice of applications for exemption from the vision standard; request for comments.

SUMMARY: This notice publishes the FMCSA's receipt of applications from 21 individuals for an exemption from the vision requirement in the Federal Motor Carrier Safety Regulations (FMCSRs). If granted, the exemptions will enable these individuals to qualify as drivers of commercial motor vehicles (CMVs) in interstate commerce without meeting the vision standard prescribed in the FMCSRs.

DATES: Comments must be received on or before April 3, 2003.

ADDRESSES: You can mail or deliver comments to the U.S. Department of Transportation, Dockets Management Facility, Room PL-401, 400 Seventh Street, SW., Washington, DC 20590-0001. You can also submit comments at http://dms.dot.gov. Please include the docket number that appears in the heading of this document. You can examine and copy this document and all comments received at the same Internet address or at the Dockets Management Facility from 9 a.m. to 5 p.m., e.t., Monday through Friday, except Federal holidays. If you want us to notify you that we received your comments, please include a self-addressed, stamped envelope or postcard.

Anyone is able to search the electronic form of all comments received into any of our dockets by the name of the individual submitting the comment (or signing the comment, if submitted on behalf of an association, business, labor union, etc.). You may review the Department of Transportation's complete Privacy Act Statement in the Federal Register published on April 11, 2000 (Volume 65, Number 70; Pages 19477-78) or you may visit http://dms.dot.gov.

FOR FURTHER INFORMATION CONTACT: Ms. Sandra Zywokarte, Office of Bus and Truck Standards and Operations, (202) 366-2987, FMCSA, Department of Transportation, 400 Seventh Street, SW., Washington, DC 20590-0001. Office hours are from 7:45 a.m. to 4:15 p.m., e.t., Monday through Friday, except Federal holidays.

SUPPLEMENTARY INFORMATION:

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 21 individuals listed in this notice have recently requested an exemption from the vision requirement in 49 CFR 391.41(b)(10), which applies to drivers of CMVs in interstate commerce. Accordingly, the agency will evaluate the qualifications of each applicant to determine whether granting the exemption will achieve the required level of safety.

Qualifications of Applicants

1. Gordon L. Apple

Mr. Apple, 71, has had crossed eyes since childhood and alternates from one eye to the other. His best-corrected visual acuity is 20/25 in the right eye and 20/25 in the left. His ophthalmologist examined him in 2002 and certified, “The condition should be stable and he is visually able to drive commercially.” Mr. Apple submitted that he has driven straight trucks for 18 years, accumulating 360,000 miles, tractor-trailer combinations for 35 years, accumulating 2.6 million miles, and buses for 6 months, accumulating 2,000 miles. He holds a Class A CDL from Arkansas. His driving record for the last 3 years shows no accidents or convictions for moving violations in a CMV.

2. Stanley E. Bernard

Mr. Bernard, 57, has amblyopia in his right eye. His best-corrected visual acuity in the right eye is 20/300 and in the left, 20/20. Following an examination in 2002, his optometrist certified, “Stan Bernard meets the visual requirements to perform the driving tasks needed to operate a commercial vehicle.” Mr. Bernard reported that he has driven straight trucks for 30 years, accumulating 1.5 million miles. He holds a Class DM1 driver's license from Alaska. His driving record for the last 3 years shows no accidents or convictions for moving violations in a CMV.

3. John D. Bolding, Jr.

Mr. Bolding, 43, has a macular scar in his left eye due to an injury in 1995. His best-corrected visual acuity in the right eye is 20/15 and in the left, 20/200. An optometrist examined him in 2002 and stated, “In our professional opinion, Mr. Bolding has sufficient vision to perform the driving tasks required to operate a commercial vehicle.” Mr. Bolding submitted that he has driven tractor-trailer combinations for 14 years, accumulating 700,000 miles. He holds a Class A CDL from Oklahoma. His driving record for the last 3 years shows no accidents or convictions for moving violations in a CMV.

4. Ronald B. Brown

Mr. Brown, 55, lost the central vision in his right eye due to a retinal vein occlusion in 1993. His best-corrected visual acuity in the right eye is hand motions and in the left, 20/25. His ophthalmologist examined him in 2002 and stated, “I would hereby certify that in my medical opinion, Mr. Brown has vision adequate to perform the tasks of his present occupation, that of driving a commercial vehicle.” Mr. Brown submitted that he has driven straight trucks for 6 years, accumulating 300,000 miles, and tractor-trailer combinations for 24 years, accumulating 2.9 million miles. He holds a Class A CDL from Maine. His driving record shows no accidents or convictions for moving violations in a CMV during the last 3 years.

5. Michael P. Curtin

Mr. Curtin, 47, has amblyopia in his right eye. His best-corrected visual acuity in the right eye is 20/400 and in the left, 20/20. Following an examination in 2002, his optometrist certified, “I do not feel this should decrease his ability to safely drive a commercial vehicle.” Mr. Curtin submitted that he has driven straight trucks for 20 years, accumulating 100,000 miles, and tractor-trailer combinations for 2 years, accumulating 10,000 miles. He holds a Class AM CDL from Illinois. His driving record for the last 3 years shows no accidents or convictions for moving violations in a CMV.

6. Albion C. Doe

Mr. Doe, 44, has a congenital toxoplasmosis scar in his right eye. His visual acuity is counting fingers in the right eye and 20/25 in the left. Following an examination in 2002, his optometrist certified, “Mr. Doe has a congenital toxoplasmosis scar in his right eye which will not impair his ability to drive a commercial vehicle in any way.” Mr. Doe submitted that he has driven straight trucks for 15 years, accumulating 780,000 miles. He holds a Class A CDL from New Hampshire. His driving record shows no accidents or convictions for moving violations in a CMV during the last 3 years.

7. James M. Eads

Mr. Eads, 52, is blind in his left eye due to injury at age 5. His best-corrected visual acuity in the right eye is 20/20. An optometrist examined him in 2002 and stated, “His right eye is revealed to have good ocular health and he has adapted well with his monocular vision to safely drive a commercial vehicle.” Mr. Eads reported that he has driven straight trucks for 12 years, accumulating 480,000 miles. He holds a chauffeur's license from Indiana. His driving record shows no accidents or convictions for moving violations in a CMV during the last 3 years.

8. Richard L. Elyard

Mr. Elyard, 55, is blind in his right eye due to an accident 30 years ago. The best-corrected visual acuity in his left eye is 20/20. Following an examination in 2002, his optometrist certified, “It is my opinion that Mr. Elyard is visually qualified to operate a commercial vehicle at this time.” Mr. Elyard reported that he has driven tractor-trailer combinations for 30 years, accumulating 3.1 million miles. He holds a Class A CDL from Virginia. His driving record shows no accidents or convictions for moving violations in a CMV during the last 3 years.

9. Michael R. Forschino

Mr. Forschino, 56, has amblyopia in his left eye. His best-corrected visual acuity is 20/25 in the right eye and 20/50—in the left. His optometrist examined him in 2002 and stated, “Mr. Forschino possesses sufficient vision required to operate a commercial motor vehicle.” Mr. Forschino reported that he has driven straight trucks for 7 years, accumulating 434,000 miles. He holds a Class B CDL from Connecticut. His driving record shows no accidents or convictions for moving violations in a CMV during the last 3 years.

10. John C. Gadomski

Mr. Gadomski, 38, has amblyopia in his left eye. His best-corrected visual acuity is 20/20 in the right eye and 20/100 in the left. His optometrist examined him in 2002 and stated, “I do believe that his vision is sufficient to perform driving tasks required to operate a commercial vehicle.” Mr. Gadomski reported that he has driven straight trucks for 15 years, accumulating 1.5 million miles. He holds a Class B CDL from New York. His driving record shows no accidents or convictions for moving violations in a CMV during the last 3 years.

11. Richard H. Hammann

Mr. Hammann, 64, has reduced vision in his left eye due to trauma in 1998. His best-corrected visual acuity is 20/30 in the right eye and 20/200 in the left. His ophthalmologist examined him in 2002 and stated, “In my opinion he has adequate vision to operate a commercial vehicle.” Mr. Hammann reported that he has driven straight trucks for 44 years, accumulating 1.8 million miles, tractor-trailer combinations for 15 years, accumulating 1.2 million miles, and buses for 44 years, accumulating 2.6 million miles. He holds a Class BCDM CDL from Wisconsin. His driving record for the last 3 years shows no accidents or convictions for moving violations in a CMV.

12. Carl M. Hill

Mr. Hill, 68, has had a histoplasmosis scar in his left eye since childhood. His best-corrected visual acuity is 20/20 in his right eye and 20/100 in the left. An optometrist examined him in 2002 and stated, “In my opinion, Mr. Hill has sufficient vision to operate a commercial vehicle.” Mr. Hill reported that he has driven straight trucks for 3 years, accumulating 3,000 miles, tractor-trailer combinations for 13 years, accumulating 975,000 miles, and buses for 1 year, accumulating 5,000 miles. He holds a Class A CDL from California. His driving record for the last 3 years shows no accidents or convictions for moving violations in a CMV.

13. David A. Hiller

Mr. Hiller, 53, has amblyopia in his left eye. His best-corrected visual acuity in the right eye is 20/20 and in the left, 20/400. Following an examination in 2002, his optometrist stated, “It is my professional opinion that Mr. Hiller's visual condition has not previously affected his ability to operate a commercial motor vehicle nor should it affect any further performance.” Mr. Hiller submitted that he has driven straight trucks for 34 years, accumulating 3.2 million miles. He holds a Class A CDL from Minnesota. His driving record shows no accidents or convictions for moving violations in a CMV during the last 3 years.

14. Billy L. Johnson

Mr. Johnson, 25, has amblyopia in his left eye. His best-corrected visual acuity in the right eye is 20/20 and in the left, 20/60-2. His optometrist examined him in 2002 and certified, “I do feel, in my opinion, that he does have sufficient vision to perform commercial driving tasks and it is the same now as over the past few years.” Mr. Johnson submitted that he has driven tractor-trailer combinations for 4 years, accumulating 270,000 miles. He holds a Class A CDL from North Carolina. His driving record for the last 3 years shows no accidents or convictions for moving violations in a CMV.

15. Christopher J. Kane

Mr. Kane, 44, has retinal scarring in his left eye due to injury at age 12. His best-corrected visual acuity is 20/20 in the right eye and 20/80—in the left. Following an examination in 2002, his optometrist stated, “I would certify Mr. Kane's vision as sufficient for operating a commercial vehicle.” Mr. Kane reported that he has driven straight trucks for 2 years, accumulating 28,000 miles, and tractor-trailer combinations for 4 years, accumulating 158,000 miles. He holds a Class A CDL from Vermont. His driving record shows no accidents or convictions for moving violations in a CMV during the last 3 years.

16. Jack E. Kettner

Mr. Kettner, 33, experienced optic atrophy in his left eye due to tumor resection in 1992. His best-corrected visual acuity is 20/20 in the right eye and counting fingers in the left. An optometrist examined him in 2002 and certified, “Jack Kettner has sufficient vision to perform commercial driving tasks.” Mr. Kettner submitted that he has driven straight trucks for 10 years, accumulating 150,000 miles. He holds a Class B CDL from Florida. His driving record for the last 3 years shows no accidents or convictions for moving violations in a CMV.

17. Wallace F. Mahan, Sr.

Mr. Mahan, 63, experienced a retinal vein occlusion in his right eye in 1998. His best-corrected visual acuity is 20/400+1 in the right eye and 20/25+3 in the left. Following an examination in 2002, his ophthalmologist certified, “It is my medical opinion that the patient has sufficient vision to perform the driving tasks required to operate a commercial vehicle.” Mr. Mahan reported that he has driven tractor-trailer combinations for 40 years, accumulating 1.6 million miles. He holds a Class A CDL from Maine. His driving record for the last 3 years shows no accidents or convictions for moving violations in a CMV.

18. James R. Petre

Mr. Petre, 50, has counting fingers vision in his left eye due to a childhood injury. His best-corrected visual acuity in the right eye is 20/20. His optometrist examined him in 2002 and stated, “I do certify in my opinion, that Mr. James Petre has sufficient vision to perform the driving tasks required to operate a commercial vehicle.” Mr. Petre submitted that he has driven straight trucks for 30 years, accumulating 600,000 miles. Mr. Petre holds a Class B CDL from Maryland. His driving record for the last 3 years shows no accidents or convictions for moving violations in a CMV.

19. William E. Reveal

Mr. Reveal, 37, has a retinal detachment in his right eye resulting from a congenital condition. His best-corrected visual acuity in the left eye is 20/20 and in the right, hand motions. His optometrist examined him in 2002 and stated, “Due to the clarity of Mr. Reveal's vision in the left eye, and his life long adaptation to the reduction of vision in his right eye, it is my opinion that his vision is sufficient to perform the driving tasks required to operate a commercial vehicle.” Mr. Reveal reported that he has driven straight trucks for 14 years, accumulating 420,000 miles. He holds a Class B CDL from Ohio. His driving record shows no accidents and two convictions for moving violations—speeding and “failure to obey a traffic control device/sign”—in a CMV. He exceeded the speed limit by 10 mph.

20. Robert P. Sanderson

Mr. Sanderson, 59, is blind in his left eye due to a central retinal artery occlusion that occurred in 1998. His best-corrected visual acuity in the right eye is 20/20. His ophthalmologist examined him in 2002 and certified, “Mr. Sanderson's visual acuity in his good eye is stable and I feel he has sufficient vision to perform the driving tasks required to operate a commercial vehicle.” Mr. Sanderson submitted that he has driven straight trucks for 15 years, accumulating 300,000 miles, and tractor-trailer combinations for 30 years, accumulating 2.4 million miles. He holds a Class A CDL from Vermont. His driving record for the last 3 years shows no accidents or convictions for moving violations in a CMV.

21. Janusz Tyrpien

Mr. Tyrpien, 45, has had a chorio-retinal scar in his left eye since 1998. His best-corrected visual acuity in the right eye is 20/20 and in the left, 20/50. An optometrist examined him in 2002 and stated, “It is my opinion that he has sufficient vision to perform the tasks required to operate a commercial vehicle.” Mr. Tyrpien reported that he has driven tractor-trailer combinations for 3 years, accumulating 300,000 miles. He holds a Class A CDL from Florida. His driving record shows no accidents or convictions for moving violations in a CMV during the last 3 years.

Request for Comments

In accordance with 49 U.S.C. 31315 and 31136(e), the FMCSA requests public comment from all interested persons on the exemption petitions described in this notice. We will consider all comments received before the close of business on the closing date indicated earlier in the notice.

Issued on: February 24, 2003.
Pamela M. Pelcovits,
Acting Associate Administrator for Policy and Program Development.

[FR Doc. 03-5017 Filed 3-3-03; 8:45 am]

BILLING CODE 4910-EX-P